DEPARTMENT OF TRANSPORTATION

Federal Aviation Administration

14 CFR Part 97

[Docket No. 30781; Amdt. No. 3424]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 16, 2011. The compliance date for each SIAP, associated Takeoff Minimums, and ODP is specified in the amendatory provisions.

The incorporation by reference of certain publications listed in the regulations is approved by the Director of the Federal Register as of May 16, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on April 29, 2011.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 2 JUN 2011

Sioux City, IA, Sioux Gateway/Col. Bud Day Field, ILS OR LOC RWY 31, Amdt 25

Cheboygan, MI, Cheboygan County, RNAV (GPS) RWY 10, Amdt 2

Spearfish, SD, Black Hills-Clyde Ice Field, Takeoff Minimum and Obstacle DP, Amdt 1

Gladewater, TX, Gladewater Muni, Takeoff Minimum and Obstacle DP, Amdt 1

Panguitch, UT, Panguitch Muni, RNAV (GPS) RWY 18, Orig

Panguitch, UT, Panguitch Muni, RNAV (GPS) RWY 36, Orig

Panguitch, UT, Panguitch Muni, Takeoff Minimums and Obstacle DP, Orig

Marion/Wytheville, VA, Mountain Empire, LOC RWY 26, Amdt 2

Newport, VT, Newport State, Takeoff Minimums and Obstacle DP, Amdt 3

Effective 30 JUN 2011

Anchorage, AK, Ted Stevens Anchorage Intl, ILS OR LOC/DME RWY 7L, ILS RWY 7L (SA CAT I), ILS RWY 7L (CAT II), Amdt 2

Anchorage, AK, Ted Stevens Anchorage Intl, ILS RWY 15, Amdt 5

Anchorage, AK, Ted Stevens Anchorage Intl, RNAV (GPS) RWY 7L, Amdt 2

Anchorage, AK, Ted Stevens Anchorage Intl, RNAV (GPS) RWY 15, Amdt 2

Anchorage, AK, Ted Stevens Anchorage Intl, Takeoff Minimum and Obstacle DP, Amdt 6

Anchorage, AK, Ted Stevens Anchorage Intl, VOR RWY 7R, Amdt 13A, CANCELLED

Kodiak, AK, Kodiak, ILS OR LOC/DME Y RWY 25, Amdt 1A

Kodiak, AK, Kodiak, VOR Y RWY 25, Amdt 1A

Point Lay, AK, Point Lay LRRS, NDB RWY 5, Amdt 1

Soldotna, AK, Soldotna, NDB RWY 7, Amdt 2

Soldotna, AK, Soldotna, NDB RWY 25, Amdt 3

Soldotna, AK, Soldotna, VOR-A, Amdt 7

Unalakleet, AK, Unalakleet, VOR/DME-D, Amdt 5

Willits, CA, Ellis Field—Willits Muni, FLUEN TWO Graphic DP

Fort Pierce, FL, St Lucie County Intl, ILS OR LOC RWY 10R, Amdt 2A

Fort Pierce, FL, St Lucie County Intl, NDB RWY 28L, Amdt 1A

Fort Pierce, FL, St Lucie County Intl, RNAV (GPS) RWY 10R, Orig-A

Fort Pierce, FL, St Lucie County Intl, RNAV (GPS) RWY 28L, Orig-A

Clarinda, IA, Schenck Field, NDB-A, Amdt 5B

Clarinda, IA, Schenck Field, RNAV (GPS) RWY 2, Orig-A

Clarinda, IA, Schenck Field, RNAV (GPS) RWY 20, Orig-A

Forest City, IA, Forest City Muni, NDB RWY 33, Amdt 2

Independence, IA, Independence Muni, Takeoff Minimums and Obstacle DP, Amdt 4

Mason City, IA, Mason City Muni, Takeoff Minimums and Obstacle DP, Orig

Benton, IL, Benton Muni, RNAV (GPS) RWY 18, Orig

Benton, IL, Benton Muni, Takeoff Minimums and Obstacle DP, Orig

Cahokia/St. Louis, IL, St. Louis Downtown, GPS RWY 30L, Orig, CANCELLED

Cahokia/St. Louis, IL, St. Louis Downtown, RNAV (GPS) RWY 30L, Orig

Cahokia/St. Louis, IL, St. Louis Downtown, RNAV (GPS) RWY 30R, Orig

Chicago/Aurora, IL, Aurora Muni, RNAV (GPS) RWY 27, Amdt 1

Chicago/Rockford, IL, Chicago/Rockford Intl, RNAV (GPS) RWY 7, Amdt 1

Chicago/Rockford, IL, Chicago/Rockford Intl, RNAV (GPS) Y RWY 25, Orig-B

Chicago/Rockford, IL, Chicago/Rockford Intl, RNAV (GPS) Z RWY 25, Orig-B

Chicago/West Chicago, IL, Dupage, RNAV (GPS) RWY 20R, Amdt 1

Dixon, IL, Dixon Muni-Charles R. Walgreen Field, RNAV (GPS) RWY 8, Amdt 1

South Bend, IN, South Bend Rgnl, RNAV (GPS) RWY 18, Amdt 1

Burlington, KS, Coffey County, Takeoff Minimums and Obstacle DP, Orig

Hopkinsville, KY, Hopkinsville-Christian County, RNAV (GPS) RWY 26, Amdt 1

Ruston, LA, Ruston Rgnl, GPS RWY 18, Amdt 1A, CANCELLED

Ruston, LA, Ruston Rgnl, GPS RWY 36, Orig, CANCELLED

Ruston, LA, Ruston Rgnl, RNAV (GPS) RWY 18, Orig

Ruston, LA, Ruston Rgnl, RNAV (GPS) RWY 36, Orig

Ruston, LA, Ruston Rgnl, Takeoff Minimums and Obstacle DP, Orig

Hutchinson, MN, Hutchinson Muni-Butler Field, NDB OR GPS RWY 15, Amdt 3, CANCELLED

Hutchinson, MN, Hutchinson Muni-Butler Field, RNAV (GPS) RWY 15, Orig

Hutchinson, MN, Hutchinson Muni-Butler Field, RNAV (GPS) RWY 33, Orig

Hutchinson, MN, Hutchinson Muni-Butler Field, Takeoff Minimums and Obstacle DP, Orig

Hutchinson, MN, Hutchinson Muni-Butler Field, VOR/DME RWY 33, Amdt 3

Waseca, MN, Waseca Muni, NDB RWY 15, Amdt 5, CANCELLED

Jefferson City, MO, Jefferson City Memorial, ILS OR LOC RWY 30, Amdt 5B

Jefferson City, MO, Jefferson City Memorial, NDB RWY 12, Amdt 2C

Kansas City, MO, Charles B. Wheeler Downtown, RNAV (GPS) RWY 19, Orig

Moberly, MO, Omar N Bradley, RNAV (GPS) RWY 13, Orig

Moberly, MO, Omar N Bradley, RNAV (GPS) RWY 31, Orig

Moberly, MO, Omar N Bradley, Takeoff Minimums and Obstacle DP, Orig

Moberly, MO, Omar N Bradley, VOR/DME-A, Amdt 4

Bozeman, MT, Gallatin Field, BOZEMAN FOUR Graphic DP

Bozeman, MT, Gallatin Field, Takeoff Minimums and Obstacle DP, Amdt 4

Bozeman, MT, Gallatin Field, VOR RWY 12, Amdt 15

Bozeman, MT, Gallatin Field, VOR/DME RWY 12, Amdt 4

Devil's Lake, ND, Devil's Lake Rgnl, ILS OR LOC/DME RWY 31, Amdt 2

Devil's Lake, ND, Devil's Lake Rgnl, RNAV (GPS) RWY 3, Amdt 1

Ely, NV, Ely Airport-Yelland Field, Takeoff Minimums and Obstacle DP, Amdt 2

Reno, NV, Reno/Tahoe Intl, RNAV (GPS) X RWY 16L, Amdt 1B

Reno, NV, Reno/Tahoe Intl, RNAV (GPS) X RWY 16R, Amdt 1B

Reno, NV, Reno/Tahoe Intl, RNAV (RNP) Y RWY 16L, Orig

Reno, NV, Reno/Tahoe Intl, RNAV (RNP) Y RWY 16R, Orig

Reno, NV, Reno/Tahoe Intl, RNAV (RNP) Z RWY 16L, Amdt 1

Reno, NV, Reno/Tahoe Intl, RNAV (RNP) Z RWY 16R, Amdt 1

Batavia, NY, Genesee County, RNAV (GPS) RWY 10, Orig

New York, NY, Long Island Mac Arthur, ILS OR LOC RWY 6, Amdt 24

New York, NY, Long Island Mac Arthur, ILS OR LOC RWY 24, Amdt 4

New York, NY, Long Island Mac Arthur, NDB RWY 6, Amdt 20, CANCELLED

New York, NY, Long Island Mac Arthur, RNAV (GPS) RWY 6, Amdt 1

New York, NY, Long Island Mac Arthur, RNAV (GPS) RWY 15R, Orig

New York, NY, Long Island Mac Arthur, RNAV (GPS) RWY 24, Amdt 1

New York, NY, Long Island Mac Arthur, RNAV (GPS) RWY 33L, Orig

New York, NY, Long Island Mac Arthur, Takeoff Minimums and Obstacle DP, Amdt 5

Altoona, PA, Altoona—Blair County, Takeoff Minimums and Obstacle DP, Amdt 4

Mayaguez, PR, Eugenio Maria De Hostos, RNAV (GPS) RWY 9, Orig

Mayaguez, PR, Eugenio Maria De Hostos, VOR RWY 9, Amdt 10

Madison, SD, Madison Muni, GPS RWY 33, Orig-C, CANCELLED

Madison, SD, Madison Muni, NDB RWY 15, Amdt 10

Madison, SD, Madison Muni, RNAV (GPS) RWY 15, Orig

Madison, SD, Madison Muni, RNAV (GPS) RWY 33, Orig

Yankton, SD, Chan Gurney Muni, NDB RWY 31, Amdt 3

Yankton, SD, Chan Gurney Muni, RNAV (GPS) RWY 31, Orig

West Dover, VT, Mount Snow, Takeoff Minimums and Obstacle DP, Amdt 2

[FR Doc. 2011-11374 Filed 5-13-11; 8:45 am]

BILLING CODE 4910-13-P